U.S. DEPARTMENT OF COMMERCE

Foreign-Trade Zones Board

[Order No. 1628]

Expansion of Foreign-Trade Zone 106, Oklahoma City, Oklahoma

Pursuant to its authority under the Foreign-Trade Zones Act of June 18, 1934, as amended (19 U.S.C. 81a-81u), the Foreign-Trade Zones Board (the Board) adopts the following Order:

Whereas, the Port Authority of the Greater Oklahoma City Area, grantee of Foreign-Trade Zone 106, submitted an application to the Board for authority to expand FTZ 106 to include a site in Mustang, Oklahoma, adjacent to the Oklahoma City Customs and Border Protection port of entry (FTZ Docket 36-2008, filed 5/28/2008);

Whereas, notice inviting public comment has been given in the Federal Register (73 FR 31811, 6/4/2008) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 106 is approved, subject to the FTZ Act and the Board's regulations, including Section 400.28, and to the Board's standard 2,000-acre activation limit for the overall general-purpose zone project, and further subject to a time limit that will terminate authority for Site 14 on June 30, 2014, subject to extension upon review.

Signed at Washington, DC, this 26th day of June 2009.

Ronald K. Lorentzen,
Acting Assistant Secretary of Commerce for Import Administration, Alternate Chairman, Foreign-Trade Zones Board.
Attest:
Andrew McGilvray,
Executive Secretary.

[FR Doc. E9-16279 Filed 7-8-09; 8:45 am]

BILLING CODE 3510-DS-S